DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans)

SUMMARY: The FHWA, on behalf of Caltrans, is issuing this notice to announce actions taken by Caltrans, that are final. The actions relate to a proposed highway project, U.S. Route 101 (US-101) between postmile 32.8 to postmile 33.8, immediately west of Liberty Canyon Road, in the City of Agoura Hills, in the County of Los Angeles, State of California. Those actions grant licenses, permits, and approvals for the project.

DATES: A claim seeking judicial review of the Federal agency actions on the highway project will be barred unless the claim is filed on or before October 26, 2018. If the Federal law that authorizes judicial review of a claim provides a time period of less than 150 days for filing such claim, then that shorter time period still applies.

FOR FURTHER INFORMATION CONTACT: For Caltrans: Susan Tse-Koo, Branch Chief, Division of Environmental Planning, California Department of Transportation. Address: 100 S. Main Street MS16A, Los Angeles CA 90012, Regular Office Hours M-F 8:00 A.M. to 5:00 P.M., Phone number (213) 897-1821, Email Susan_Tse@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans has taken final agency actions subject to 23 U.S.C. 139(l)(1) by issuing licenses, permits, and approvals for the following highway project in the State of California: The California Department of Transportation (the Department) proposes to construct a vegetated bridge across the US-101 west of Liberty Canyon Road and across Agoura Road. The overcrossing over Agoura Road will have a maximum width of 54-feet and height of 16.5-feet. The project is located at postmile 32.8 to postmile 33.8 in the City of Agoura Hills, in the County of Los Angeles. The project also includes the improvement of wildlife fencing, enhancement of habitat adjacent to the overcrossing structure through planting of native vegetation, construction of sound walls and retaining walls, and construction of an unpaved path around the south side of the bridge over Agoura Road. The actions by the Federal agencies, and the laws under which such actions were taken, are described in the Environmental Assessment with Finding of No Significant Impact (EA, FONSI) for the project, approved on April 12, 2018, and in other documents in the FHWA project records. The EA, FONSI and other project records are available by contacting Caltrans at the addresses provided above. The Caltrans EA, FONSI can be viewed and downloaded from the project website at http://www.dot.ca.gov/d7/projects/libertycanyon/.

This notice applies to all Federal agency decisions as of the issuance date of this notice and all laws under which such actions were taken, including but not limited to:

1. Memorandum of Understanding with FHWA for NEPA assignment dated, December 23, 2016.

2. Safe, Accountable, Flexible and Efficient, Transportation Equity Act, A Legacy for Users (SAFETEA-LU Section 6002).

3. Title VI of the Civil Rights Act of 1967.

4. MAP-21 (Pub. L. 112-141).

5. Section 4(f), Department of Transportation Act of 1966.

(Catalog of Federal Domestic Assistance Program Number 20.205, Highway Planning and Construction. The regulations implementing Executive Order 12372 regarding intergovernmental consultation on Federal programs and activities apply to this program.)

Authority: 23 U.S.C. 139(l)(1).

Omar A. Elkassed,
Sr. Transportation Engineer & TIGER/ATCMTD Program Coordinator, FHWA California Division—Calsouth Office.

[FR Doc. 2018-11442 Filed 5-25-18; 8:45 am]

BILLING CODE 4910-FY-P